DEPARTMENT OF THE INTERIOR

Invasive Species Advisory Committee; Request for Nominations

AGENCY: Office of the Secretary, National Invasive Species Council.

ACTION: Request for Nominations for the Invasive Species Advisory Committee.

SUMMARY: The U.S. Department of the Interior, on behalf of the interdepartmental National Invasive Species Council, proposes to appoint new members to the Invasive Species Advisory Committee (ISAC). The Secretary of the Interior, acting as administrative lead, is requesting nominations for qualified persons to serve as members of the ISAC.

DATES: Nominations must be postmarked by June 18, 2012.

ADDRESSES: Nominations should be sent to Lori Williams, Executive Director, National Invasive Species Council (OS/NISC), Regular Mail: 1849 C Street NW., (MS 1201 EYE), Washington, DC 20240; Express Mail: 1201 Eye Street NW., 5th Floor, Washington, DC 20005.

FOR FURTHER INFORMATION CONTACT: Kelsey Brantley, Program Specialist and ISAC Coordinator, at (202) 513-7243, fax: (202) 371-1751, or by email at Kelsey_Brantley@ios.doi.gov.

SUPPLEMENTARY INFORMATION:

Advisory Committee Scope and Objectives

The purpose and role of the ISAC are to provide advice to the National Invasive Species Council (NISC), as authorized by Executive Order 13112, on a broad array of issues including preventing the introduction of invasive species, providing for their control, and minimizing the economic, ecological, and human health impacts that invasive species cause. NISC is Co-chaired by the Secretaries of the Interior, Agriculture, and Commerce, and is charged with providing coordination, planning and leadership regarding invasive species issues. Pursuant to the Executive Order, NISC developed a 2008—2012 National Invasive Species Management Plan (Plan), which is available on the Web at http://www.invasivespecies.gov/main_nav/mn_NISC_ManagementPlan.html. NISC is responsible for effective implementation of the Plan including any revisions of the Plan, and also coordinates Federal agency activities concerning invasive species; encourages planning and action at local, tribal, state, regional and ecosystem-based levels; develops recommendations for international cooperation in addressing invasive species; facilitates the development of a coordinated network to document, evaluate, and monitor impacts from invasive species; and facilitates information-sharing.

The role of ISAC is to maintain an intensive and regular dialogue regarding the aforementioned issues. ISAC provides advice in cooperation with stakeholders and communities of interests affected by invasive species. The ISAC usually meets up to twice per year.

After consultation with the other members of NISC, the Secretary of the Interior will actively solicit new nominees and appoint members to ISAC. Prospective members of ISAC should be knowledgeable in and represent communities of interests affected by invasive species such as: Agriculture; aquaculture; biofuel production; livestock grazing and production; landscaping, horticulture, and plant nurseries; pet industry; crop protection; marine fisheries; forest health and management; potable and irrigation water management; natural resource management and restoration; animal health protection; shipping, tourism, highways, and other transportation industries; international development and trade; public land access and management; lake, estuary, and coastal management; hiking, camping, trail riding, and outdoor recreation; conservation organizations; biodiversity conservation; professional scientific research and education societies; urban and suburban park management; energy and mineral resource development; corporate land management; native plant conservation; bird and wildlife watching; hunting, boating, and angling; invasive plant or animal science; plant pathology; environmental education; science and environmental journalism and outreach; natural resource economics; tribal resource management; natural resource political science; and relevant areas of law and regulatory policy.

Nominees should have experience work related to invasive species planning and coordination in areas such as: developing natural resource management plans; invasive species prevention, early detection and rapid response, control, restoration, and research; multiple jurisdictional planning; integrating science and the human dimension in order to create effective solutions to complex conservation issues; international negotiations; government relations; coordinating the work of diverse groups of stakeholders to resolve complex issues and conflicts; and complying with the National Environmental Policy Act and other Federal requirements for public involvement in major conservation plans. Members will be selected in order to achieve a balanced representation of viewpoints, areas of experience, subject matter expertise, and representation of communities of interests. Members' terms are limited to three (3) years from their appointment to ISAC. Following a term, an ISAC member may request to be considered for an additional term. No member may serve on the ISAC for more than two (2) consecutive terms.

Members of the ISAC and its subcommittees serve without pay. However, while away from their homes or regular places of business in the performance of services of the ISAC, members shall be allowed travel expenses, including per diem in lieu of subsistence, in the same manner as persons employed intermittently in the government service, as authorized by section 5703 of Title 5, United States Code. Employees of the Federal Government are not eligible for nomination or appointment to ISAC.

The Obama Administration prohibits individuals who are currently federally registered lobbyists to serve on all FACA and non-FACA boards, committees or councils.

Submitting Nominations

Nominations should be typed and must include each of the following:

1. A brief summary of no more than two (2) pages explaining the nominee's suitability to serve on the ISAC.

2. A resume or curriculum vitae.

3. A minimum of two (2) letters of reference.

All required documents must be compiled and submitted in one complete nomination package. This office will not assemble nomination packages from documentation sent piecemeal. Incomplete submissions (missing one or more of the items described above) will not be considered. Nominations must be postmarked no later than June 18, 2012, to Lori Williams, Executive Director, National Invasive Species Council (OS/NISC), Regular Mail: 1849 C Street NW., (MS 1201 EYE), Washington, DC 20240; Express Mail: 1201 Eye Street NW., 5th Floor, Washington, DC 20005.

The Secretary of the Interior, on behalf of the other members of NISC, is actively soliciting nominations of qualified minorities, women, persons with disabilities and members of low income populations to ensure that recommendations of the ISAC take into account the needs of the diverse groups served.

Dated: April 11, 2012.
Lori C. Williams,
Executive Director, National Invasive Species Council.

[FR Doc. 2012-9379 Filed 4-18-12; 8:45 am]

BILLING CODE 4310-RK-P